DEPARTMENT OF LABOR

Employment and Training Administration

[TA-W-63,027]

Powermate Corporation, Including Temporary Workers From Manpower Temp Agency, Springfield, MN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on March 28, 2008, applicable to workers of Powermate Corporation, Springfield, Minnesota. The notice was published in the Federal Register on April 11, 2008 (73 FR 19899).

At the request of the State agency, the Department reviewed the certification for workers of the subject firm. The workers are engaged in the production of air compressors and pressure washers. New information provided to the Department shows that beginning in June 2007, some workers at the subject firm were temporary workers from Manpower Temp Agency and were subsequently hired by Powermate Corporation.

Consequently, some of the workers at the subject firm had their wages reported under the Unemployment Insurance (UI) tax account for Manpower.

Accordingly, the Department is amending this certification to properly reflect this matter.

The intent of the Department's certification is to include all workers of Powermate Corporation who were adversely affected by increased company imports.

The amended notice applicable to TA-W-63,027 is hereby issued as follows:

All workers of Powermate Corporation, including temporary workers from Manpower Temp Agency, Springfield, Minnesota, who became totally or partially separated from employment on or after March 18, 2007, through March 28, 2010, are eligible to apply for adjustment assistance under Section 223 of the Trade Act of 1974, and are also eligible to apply for alternative trade adjustment assistance under Section 246 of the Trade Act of 1974.

Signed at Washington, DC, this 3rd day of June
Linda G. Poole,
Certifying Officer, Division of Trade Adjustment Assistance.

[FR Doc. E8-12972 Filed 6-9-08; 8:45 am]

BILLING CODE 4510-FN-P